DEPARTMENT OF THE INTERIOR

U.S. Geological Survey

Proposed Information Collection; Nonindigenous Aquatic Species Sighting Reporting Form

AGENCY: United States Geological Survey (USGS), Interior.

ACTION: Notice of a new collection; request for comments.

SUMMARY: We (the U.S. Geological Survey) will ask the Office of Management and Budget (OMB) to approve the information collection (IC) described below. As required by the Paperwork Reduction Act of 1995 and as a part of our continuing effort to reduce paperwork and respondent burden, we invite the general public and other federal agencies to take this opportunity to comment on this IC. We may not conduct or sponsor and a person is not required to respond to a collection of information unless it displays a currently valid OMB control number.

DATES: You must submit comment on or before April 23, 2010.

ADDRESSES: Send your comments on the ICR to Phadrea Ponds, Information Collection Clearance Officer, U.S. Geological Survey, 2150-C Centre Avenue, Fort Collins, CO 80526 (mail); pponds@usgs.gov.

FOR FURTHER INFORMATION CONTACT: To request additional information about this ICR, please contact USGS Pam Fuller at 7920 NW. 71st Street, Gainesville, Florida 32653 (mail); pam_fuller@usgs.gov (e-mail); or by telephone (352) 264-3481.

SUPPLEMENTARY INFORMATION:

I. Abstract

Information is collected from the public regarding the distribution of nonindigenous aquatic species, primarily fish, in open waters of the United States. This is vital information for early detection and rapid response for the possible eradication of organisms that may be considered invasive in a natural environment such as a lake, river, stream, and pond. These species are not native to the environment in which they are now found. Nonindigenous species can and do have negative impacts on our natives species. Early detection is a major focus of the Bureau. The public can help us with this task by serving as the “eyes and ears” for our Program because the USGS cannot possibly be everywhere, observing and monitoring all open waters for nonindigenous aquatic species.

The USGS does not actively solicit this information; a form is posted on our Web site to be completed with biologic, geographic and sender information. It is completely voluntary and sent to us only when the public has encountered a nonindigenous aquatic organism, usually through fishing or some other outdoor recreational activity and they chose to let us know.

II. Data

OMB Control Number: None. This is a new collection.

Title: Nonindigenous Aquatic Species Sighting Reporting Form.

Type of Request: New.

Affected Public: State/local/Tribal/Academia; Individual, private.

Respondent's Obligation: Voluntary.

Frequency of Collection: On occasion.

Estimated Annual Number of Respondents: 4,500.

Estimated Total Annual Responses: 4,500.

Estimated Time per Response: 10 minutes.

Estimated Total Annual Burden Hours: 750 hours.

III. Request for Comments

We invite comments concerning this IC on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at any time. While you can ask us in your comment to withhold your personal identifying information from public review, we cannot guarantee that we will be able to do so.

Dated: February 2, 2010.
Susan D. Haseltine,
Associate Director for Biology, U.S. Geological Survey.

[FR Doc. 2010-3334 Filed 2-19-10; 8:45 am]

BILLING CODE 4311-AM-P